DEPARTMENT OF COMMERCE

National Oceanic and Atmospheric Administration

RIN 0648-XD168

New England Fishery Management Council; Public Meeting

AGENCY: National Marine Fisheries Service (NMFS), National Oceanic and Atmospheric Administration (NOAA), Commerce.

ACTION: Notice; public meeting.

SUMMARY: The New England Fishery Management Council's (Council) Groundfish Oversight Committee will meet to consider actions affecting New England fisheries in the exclusive economic zone (EEZ).

DATES: The meeting will be held on Friday, March 28, 2014 at 9:30 a.m.

ADDRESSES: Meeting address: The meeting will be held at the Omni Hotel, One West Exchange Street, Providence, RI 02903; telephone: (401) 598-8000; fax: (401) 598-8200.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION: The items of discussion in the committee's agenda are as follows:

The Groundfish Oversight Committee will meet to discuss draft alternatives for consideration in Amendment 18 (A18), an amendment to address fleet diversity and accumulation limits in the commercial groundfish fishery. There will be a review of Groundfish Plan Development Team (PDT) analysis with respect to A18 including an examination of: accumulation limits; permit banks; permit holdings data; United States/Canada quota trading for Eastern Georges Bank (EB) cod, EGB haddock, and Georges Bank yellowtail flounder; Handgear A fishery proposal; and recent spatial and temporal trends in fishing effort and biology of Gulf of Maine cod. They will review additional scoping period comments with respect to A18. Also on the agenda will be a discussion on progress toward developing draft alternatives for Framework Adjustment 52 (FW 52), a narrow and focused framework to revise commercial groundfish fishery accountability measures for Southern windowpane flounder and Northern windowpane flounder stocks. They will review PDT analysis with respect to FW 52 including an examination of: recent windowpane flounder catches and discards and draft alternatives. Other business may be discussed.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Thomas A. Nies (see ADDRESSES) at least 5 days prior to the meeting date.

Authority: 16 U.S.C. 1801 et seq.

Dated: March 7, 2014.
Tracey L. Thompson,
Acting Deputy Director, Office of Sustainable Fisheries, National Marine Fisheries Service.

[FR Doc. 2014-05336 Filed 3-11-14; 8:45 am]

BILLING CODE 3510-22-P